DEPARTMENT OF THE INTERIOR

Fish and Wildlife Service

50 CFR Part 17

[Docket No. FWS-R2-ES-2022-0115; FXES1113090FEDR-245-FF09E22000]

RIN 1018-BG94

Endangered and Threatened Wildlife and Plants; Removal of the Apache Trout From the List of Endangered and Threatened Wildlife

AGENCY: Fish and Wildlife Service, Interior.

ACTION: Final rule.

SUMMARY: We, the U.S. Fish and Wildlife Service (Service or USFWS), are removing the Apache trout (Oncorhynchus apache), a fish native to Arizona, from the Federal List of Endangered and Threatened Wildlife. Our review indicates that the threats to the Apache trout have been eliminated or reduced to the point that the species no longer meets the definition of an endangered or threatened species under the Endangered Species Act of 1973, as amended (Act). Accordingly, the prohibitions and conservation measures provided by the Act, particularly through section 4 and 7, will no longer apply to the Apache trout.

DATES: This rule is effective October 7, 2024.

ADDRESSES: The proposed rule and this final rule, the post-delisting monitoring plan, the comments we received on the proposed rule, and supporting documents are available at https://www.regulations.gov under Docket No. FWS-R2-ES-2022-0115.

FOR FURTHER INFORMATION CONTACT: Heather Whitlaw, Field Supervisor, Arizona Ecological Services Office, U.S. Fish and Wildlife Service, 9828 North 31st Ave #C3, Phoenix AZ 85051-2517; telephone 602-242-0210, incomingAZcorr@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Executive Summary

Why we need to publish a rule. Under the Act, a species warrants removal from the Federal Lists of Endangered and Threatened Wildlife and Plants if it no longer meets the definition of an endangered species (in danger of extinction throughout all or a significant portion of its range) or a threatened species (likely to become an endangered species within the foreseeable future throughout all or a significant portion of its range). The Apache trout is listed as threatened, and we are delisting it because we have determined it does not meet the Act's definition of an endangered or threatened species. Delisting a species can be completed only by issuing a rule through the Administrative Procedure Act rulemaking process (5 U.S.C. 551 et seq.).

What this document does. This rule removes the Apache trout from the List of Endangered and Threatened Wildlife (List) due to the species' recovery.

The basis for our action. Under the Act, we may determine that a species is an endangered species or a threatened species because of any of five factors: (A) The present or threatened destruction, modification, or curtailment of its habitat or range; (B) overutilization for commercial, recreational, scientific, or educational purposes; (C) disease or predation; (D) the inadequacy of existing regulatory mechanisms; or (E) other natural or manmade factors affecting its continued existence. The determination to delist a species must be based on an analysis of the same factors.

Under the Act, we must review the status of all listed species at least once every five years. We must delist a species if we determine, on the basis of the best available scientific and commercial data, that the species is neither a threatened species nor an endangered species. Our regulations at 50 CFR 424.11(e) identify four reasons why we might determine a species shall be delisted: (1) The species is extinct, (2) the species has recovered to the point at which it no longer meets thedefinition of an endangered species or a threatened species, (3) new information that has become available since the original listing decision shows the listed entity does not meet thedefinition of an endangered species or a threatened species, or (4) new information that has become available since the original listing decision shows the listed entity does not meet thedefinition of a species. Here, we have determined that the Apache trout has recovered to the point at which it no longer meets the definition of an endangered species or a threatened species; therefore, we are delisting it.

Specifically, our analysis indicates that the Apache trout now consists of multiple, sufficiently resilient populations across subbasins encompassing a large percentage of the species' historical range. Due to conservation efforts undertaken to date, the Apache trout now encompasses 30 confirmed genetically pure populations across 3 basins and 6 subbasins. Twenty-five of the 30 pure populations of Apache trout are located in whole (22) or in part (3) on Tribal lands, where longstanding policy has and will continue to result in significant protections of the watersheds and these populations.

We consider the Apache trout to be a conservation-reliant species, which we define in this case as a species that has met recovery criteria but requires continued active management to sustain the species and associated habitat in a recovered condition (see Scott et al. 2010, entire), given that the Apache trout requires active management to maintain suitable habitat. To address this management need for conservation activities to address long-term management of this species, the Arizona Game and Fish Department (AZGFD), White Mountain Apache Tribe (WMAT), the U.S. Forest Service (USFS), Trout Unlimited, and the Service developed, and are implementing, the Apache trout Cooperative Management Plan (CMP; USFWS 2021, entire) and are committed to the continuing long-term management of this species. Management of conservation barriers and removal of nonnative trout following the CMP, which will not be impacted by this delisting determination, will ensure that the Apache trout maintains sufficient resiliency, redundancy, and representation to maintain viability into the future.

Previous Federal Actions

Please refer to the proposed rule to delist the Apache trout published on August 11, 2023, (88 FR 54548) for a detailed description of previous Federal actions concerning this species.

Peer Review

A species status assessment (SSA) team prepared an SSA report for the Apache trout (USFWS 2022a, entire). The SSA team was composed of Service biologists, in consultation with other species experts from WMAT, AZGFD, USFS, and Trout Unlimited. The SSA report represents a compilation of the best scientific and commercial data available concerning the status of the species, including the impacts of past, present, and future factors (both negative and beneficial) affecting the species.

In accordance with our joint policy on peer review published in the Federal Register on July 1, 1994 (59 FR 34270), and our August 22, 2016, memorandum updating and clarifying the role of peer review of listing and recovery actions under the Act, we solicited independent scientific review of the information contained in the Apache trout SSA report. As discussed in the proposed rule, we sent the SSA report to three independent peer reviewers and received three responses. The peer reviews can be found at https://www.regulations.gov. In preparing the proposed rule, we incorporated the results of these reviews, as appropriate, into the SSA report, which was the foundation for the proposed rule and this final rule. A summary of the peer review comments and our responses can be found in the proposed rule (88 FR 54548; August, 11, 2023).

Summary of Changes From the Proposed Rule

In preparing this final rule, we reviewed and fully considered all comments we received during the comment period from the peer reviewers and the public on the proposed rule to reclassify the Apache trout. Minor, nonsubstantive changes and clarifications were made to the SSA report and this final rule in response to comments. The information we received during the peer review and public comment period on the proposed rule did not change our analysis, rationale, or determination for delisting the Apache trout. Below is a summary of the clarifications made in this final rule.

(1) We made revisions to the Recovery Plan Implementation, below, to provide more clarity on various management and conservation actions that have been taken to benefit the Apache trout. With regard to management of the Apache trout and Apache trout habitat, we clarified that: projects on Apache Sitgreaves National Forest (ASNF) lands require National Environmental Policy Act review; and the WMAT, AZGFD, ASNF, USFWS, and Trout Unlimited are all signatories to the 2021 Apache Trout Cooperative Management Plan (USFWS 2021, entire).

(2) We included recent confirmation of the one population listed as “pure-suspected” in the SSA report. This population has been analyzed and was found to be genetically pure since the publication of the proposed rule on August 11, 2023 (88 FR 54548) (Mussmann 2024, pers. comm.).

(3) We noted “put-and-take opportunities” provided by AZGFD and WMAT that are intended to generate public support for Apache trout recovery.

(4) We clarified that Apache trout recovery streams on Tribal lands have not and will not be opened for angling in the future according to longstanding Tribal policy.

(5) Finally, we included information on our post-delisting monitoring (PDM) plan (Dauwalter et al. 2024, entire) that will start once the Apache trout is delisted. This plan will be managed and adhered to by the Service and its partners for at least 10 years. Specifically, the PDM plan prescribes for monitoring of Apache trout abundance and for ongoing assessments of conservation barrier effectiveness.

Summary of Comments and Recommendations

In the proposed rule published on August 11, 2023 (88 FR 54548), we requested that all interested parties submit written comments on the proposal by October 10, 2023. We also contacted appropriate Federal and State agencies, Tribal entities, scientific experts and organizations, and other interested parties and invited them to comment on the proposal. A newspaper notice inviting general public comment was published in the White Mountain Independent on August 18, 2023. We did not receive any requests for a public hearing. All substantive information received during the comment period has either been incorporated directly into this final determination or is addressed below.

Public Comments

We reviewed all public comments for substantive issues and new information regarding the species. Substantive comments we received during the comment period are addressed below.

(1) Comment: Three commenters expressed opposition to delisting the Apache trout based on the projected effects of climate change and associated effects on Apache trout habitat. The noted effects include reduced habitat suitability, diminished stream volume, and less precipitation. Two commenters cited recent peer-reviewed published projections by Dauwalter (2023 et al., entire) that apply these effects specifically to Apache trout and regionally to the southwestern United States. The third commenter stated that the implication of warmer upstream temperatures being a benefit to Apache trout populations in those portions of streams was incorrect.

Our response: The SSA report examined in depth the effects of climate change and associated effects on Apache trout habitat and did not find these effects to impact the resiliency of the species in the foreseeable future. Specifically, as we stated in the SSA report (USFWS 2022a, pp. 51, 135-140), the model suggests that most streams currently occupied by Apache trout, or those currently unoccupied but designated as recovery streams, are not temperature limited. Suitability only improves when 2080s projections of temperature alone are considered, because some headwater reaches appear to be too cold, currently, for occupancy. That is, cold temperatures can be limiting to Apache trout populations in some streams, and any warming may benefit them in headwater reaches—at least until the 2080s. It is only when future changes in precipitation are considered, as well, that habitat suitability decreases during the 2080s. Many habitat patches that are currently occupied by the species are projected to remain suitable into the 2080s, which suggests their resiliency is only limited by the size of the patch they currently occupy (Peterson et al. 2014, pp. 564-268; Isaak et al. 2015, pp. 2548-2551). In the Summary of Biological Status and Threats section of this final rule, we expanded our discussion of climate change as a threat.

In response to the reference to Dauwalter (2023, entire), we note that the cited manuscript was based on appendix C of the SSA report (USFWS 2022a, pp. 133-137) and was published by Apache trout SSA core team members following completion of the SSA report. Dauwalter et al. (2023, entire) noted that most Apache trout populations are isolated upstream of barriers to nonnative trout in stream reaches that are currently thermally suitable with respect to mean July temperatures and concluded those habitats would remain suitable into the 2080s. Cold headwater reaches are projected to warm, becoming more suitable in the 2080s. Thus, intentional isolation and the resultant truncated downstream distributions of Apache trout populations in headwater streams explain the nominal effect of projected temperature increases due to climate change on this cold-adapted salmonid. Standardized model parameters suggest that future declines in precipitation, manifested through reduced snowpack and its influence on streamflows, will play a larger role than temperature in the suitability—and, thus, resiliency—of Apache trout habitats at least into the 2080s.

(2) Comment: Two commenters stated that the delisting is premature because of impacts to Apache trout habitat caused by grazing by horses and livestock. Examples of these impacts may include eroded soils and streambanks, damaged riparian vegetation, widening of streams, effects on water depth and temperature, and contamination of streams by fecal material. One commenter stated that current land management plans by the USFS are inadequate to address these impacts. They further identified the western Black River watershed as a particular location where severe stream degradation has occurred due to grazing by horses on Tribal land.

Our response: Stream habitat quality was assessed and classified in the Current Conditions section of the SSA report (USFWS 2022a, pp. 61-96) and these assessments considered and reflected impacts from stochastic events (e.g., wildfire) and a variety of anthropogenic factors (e.g., road crossings, developed floodplains, logging, animal use). The SSA report section on Future Conditions (USFWS 2022a, pp. 97-106) included analysis of future conditions from environmental change and management actions and the projected influences on the species' ability to sustain populations in the wild over defined timeframes. Thirty-seven distinct threat factors were considered in this analysis, with Apache trout experts considering continued conservation actions (e.g., barrier construction and maintenance, chemical and mechanical removal of invasive species, habitat restoration, watershed management) and wildfires as the most important factors affecting the future condition of the Apache trout.

Grazing management was ultimately ranked as the 14th most important factor affecting the future condition of Apache trout. There are few livestock grazing allotments associated with Apache trout recovery streams, and the USFS engages in active management to remove feral horses and stray cattle where they occur outside of authorized areas. There are areas where habitat quality has been degraded by legacy grazing and other anthropogenic factors, especially in sensitive wet meadow habitats. In addition, Apache trout recovery partners are currently pursuing funding to address degraded habitats with ungulate exclosure areas, riparian plantings, and instream habitat restoration projects. Current proposals are focused on the Black River and Little Colorado River watersheds along Burro, Centerfire, Hayground, and Thompson creeks and South Fork Little Colorado River. Funding has already been secured and projects begun on Boggy/Lofer and Flash creeks on Tribal lands. Additionally, it is important to emphasize that despite certain degraded habitats, due in part to possible anthropogenic factors including grazing that have been in place since the species was listed, populations of the species have grown to meet the recovery criteria. Accordingly, we find that because the species met recovery criteria despite the effects of grazing activities, and because ongoing and future restoration projects and active grazing management will decrease the effects of this stressor in the future, delisting is not premature due to potential impacts of grazing.

(3) Comment: One commenter stated that populations under 500 individuals are at higher risk from demographic and genetic stochasticity, as well as stochastic events such as stream drying, fire, inbreeding, and low genetic variation.

Our response: The population estimates presented in the SSA report are strictly estimates of adult population size. Total population size estimates, which are available for some populations, are generally much larger than the estimates of adult population size presented in the SSA report. Although we contend that there is uncertainty about the exact threshold under which Apache trout populations are at higher risk from stochastic events, we generally agree with this comment, which is why this concept was discussed in the SSA report's Executive Summary section on resiliency (USFWS 2022a, p.7), as well as the sections on population size (USFWS 2022a, p.43), effective population size (USFWS 2022a, p.44), habitat connectivity and metapopulation dynamics (USFWS 2022a, p.45), habitat factors (USFWS 2022a, p.75), and population resiliency (USFWS 2022a, p.78).

(4) Comment: One commenter stated that the 30-year, 6-generation timeframe used for our future condition analysis is arbitrary and not based on anything biologically meaningful. They stated that we have used longer timeframes when analyzing the effects of climate change and other long-term impacts for other species' classification analyses.

Our response: The SSA framework documentation suggests that a meaningful timeframe should encompass multiple generations when considering a species' future condition and status (USFWS 2016, p. 18). We found that 30 years, or 6 generations of the Apache trout is a meaningful timeframe in which to analyze future condition because within this timeframe it is likely that the primary threats of nonnative trout and climate change will continue to be relevant to the species and it is biologically reasonable to assess the species' response to these threats within this timeframe. We have a high level of confidence in the results of our analysis of these threats and responses within this timeframe, and our confidence in the results of an analysis extended beyond this timeframe decreases. Additionally, this timeframe allows us to reasonably forecast upcoming management activities as they will be implemented through the CMP.

(5) Comment: One commenter stated that the information and data we used to assess stream temperatures are outdated and that predicted higher stream temperatures will lead to an increase of invasive trout species in Apache trout streams.

Our response: We used the best available in situ temperature monitoring data collected by the Apache-Sitgreaves National Forests on Apache trout recovery streams (2013-2018) and a widely-used stream temperature model (NorWeST; Isaak et al. 2017, entire) that contained projections into the 2080s (GCM projections of a ten-model ensemble and A1B emissions scenario; Isaak et al. 2017) to understand future habitat suitability—an approach that was subjected to peer review and was published (Dauwalter et al. 2023, entire).

Thermal tolerances between trout species are similar, and recovery streams are suitable at this time and expected to remain so well into the future. We view invasive trout as one of the primary ongoing threats to this species and have developed short- and long-term plans, which are described in the CMP and Apache Trout Monitoring Plan, to monitor for and manage this threat long-term (Apache Trout CMP Workgroup 2021, entire; Dauwalter et al. 2024, entire). Since 2015, recovery partners have eradicated invasive trout in Crooked and Flash creeks, and likely eradicated them from Aspen (formerly Squaw) and Paradise creeks during 2022. Much progress has been made in suppressing brook trout in the upper West Fork Black River population area, and in 2023, YY-male brown trout stocking began to ensure success of this effort. Additional nonnative trout removal projects will begin as the ongoing projects are completed.

In addition to these projects, recovery partners are supporting efforts to develop a YY-male brown trout broodstock for future use in eradication projects. Construction of a new conservation barrier on Big Bonito Creek has begun, and engineering designs for new conservation barriers on Aspen, Crooked/Boggy/Lofer, Flash, Little Bonito, Little Diamond/Coyote, Ord, Paradise, and Wohlenberg creeks have been acquired or are expected to be finalized during 2024. Finally, both the CMP and the Apache Trout Monitoring Plan (Apache Trout CMP Workgroup 2021, entire; Dauwalter et al. 2024, entire) detail our future invasive trout surveillance and Apache trout monitoring plans.

(6) Comment: One commenter stated that the SSA report indicates that 11 of 31 Apache trout streams lack evidence of hybridization with other trout species, however the proposed rule does not discuss this.

Our response: Table 11 in the SSA report (USFWS 2022a pp. 8-9) shows that 29 populations are “pure-tested” with another “pure-suspected.” Tissue samples from the “pure-suspected” population were collected and submitted for genetic analyses, and preliminary results indicate genetic purity of this population as well (Mussman pers. comm. 2024). Table 15 in the SSA report (USFWS 2022a, p. 104) also demonstrates the same information: there are 29 populations with a genetic score of 4 (pure-tested) and 1 with a score of 3 (pure-suspected). These are the 30 populations (now all confirmed to be pure) referenced throughout the SSA report, the 5-year status review, the proposed rule, and this final rule.

(7) Comment: One commenter stated that protection of Apache trout habitat in the West Fork of the Black River from exotic trout has not been accomplished as promised by the AZGFD and as required by the Central Arizona Project (CAP) settlement agreement. They indicated doubt that this protection would be accomplished by a conservation management plan.

Our response: The 2008 Reinitiated Biological Opinion on Transportation and Delivery of Central Arizona Project Water to the Gila River Basin in Arizona and New Mexico and its Potential to Introduce and Spread Nonindigenous Aquatic Species (USFWS 2008, entire) includes a list of barriers to be constructed by U.S. Bureau of Reclamation (Reclamation) and states: “Reclamation will construct a single fish barrier at these sites, of a design similar to those completed on Aravaipa, Sonoita, or Fossil Creeks. Siting and design will be subject to agreement between Reclamation and the Service, with appropriate review and input from AZGFD, the landowner, and experts on southwestern fishes, hydrology, and nonindigenous species invasions. Reclamation will maintain the barriers in good operating condition for the expected 100-year life of CAP. Management actions upstream of these barriers (e.g., stream renovation, species repatriation) will be the responsibility of the Service or AZGFD but may be funded through the existing Fund Transfer Program. Reclamation or its designate will monitor fish populations upstream of each constructed barrier for a period of five years following construction, unless such monitoring is redundant to that conducted by other agencies. Monitoring is intended to evaluate the success of the barriers in preventing invasions of nonindigenous fishes.”

AZGFD is not required by the referenced agreement to eradicate invasive fish from West Fork Black River, but has been working with recovery partners to do so. They have been working with White Mountain Apache Tribe (WMAT) Game and Fish Department and the Service on intensive mechanical removal of brook trout in the West Fork Black River (upper) and Thompson Creek (upper) recovery population areas, and much progress has been made to eradicate them since 2021. These three recovery partners proposed chemical renovation of this system during 2022, but they changed approaches due to public concerns raised during meetings about the project. Brook trout are much less abundant in the West Fork Black River (upper) recovery area and have been eradicated from the Thompson Creek (upper) population area, following several years of intensive mechanical removal efforts (2021-present).

(8) Comment: Two commenters expressed concern over the effectiveness of protective barriers in keeping Apache trout populations free of nonnative trout. One commenter stated that all protective barriers would eventually be breached by exotic trout, and the other commenter stated that most Apache trout populations are isolated above protective barriers and are all at risk of invasion by invasive trout.

Our response: In the SSA report we discuss how fish passage barriers have long been used as a conservation tool to protect Apache trout populations from invading nonnative fishes that occur and are naturalized from historical stocking practices (Robinson et al. 2004, entire; Avenetti et al. 2006, entire). A short-term evaluation of effectiveness of barriers protecting Apache trout populations found that only 1 of 1,436 salmonids marked downstream were collected upstream of the evaluated barriers over a 3-year period. Despite short-term effectiveness, long-term evaluation was needed (Avenetti et al. 2006, entire). Maintenance on barriers is commonly conducted by managers when effectiveness is questionable due to physical integrity or flow patterns, when channel migration compromises structural integrity, or for other reasons.

In addition, barrier design has sometimes been inadequate. Large trout have been observed jumping step pools associated with a 1-meter (m) barrier on Fish Creek during high flows, suggesting passage was likely at high flows and that the design was inadequate (Avenetti et al. 2006, pp. 214-215). Recent barrier assessment included an engineer review and design modification suggestions that have informed barrier modification and maintenance, and recent barriers have been designed to withstand higher flows to ensure protection of Apache trout populations above those barriers (AZGFD and USFWS 2015, entire). The SSA report shows that 19 of 30 pure populations are free of nonnative trout. However, considering recent apparent eradications in Aspen (pending) and Bear Wallow (confirmed) creeks, 21 populations are now free of nonnative trout. Conservation barriers have been critical to recovery of Apache trout and other native trout recovery efforts.

Brown trout were eradicated from Crooked Creek in 2015 after 13 years of mechanical removal effort. Although the barrier protecting that population has not been replaced or modified since, the Apache trout population above that site has remained free of brown trout and their abundance has increased 379 percent: adult Apache trout abundance was estimated at 301 adults in 2016 and 1,444 adults in 2023. Similarly, abundance of Apache trout in Paradise Creek increased from an estimated 11 adults in 2018 to 164 adults in 2023 concomitant with brown trout eradication efforts, and this population will be augmented with additional Apache trout from Deep Creek to address genetic concerns due to low population size around 2018. Finally, abundance of Apache trout in Bear Wallow Creek increased from an estimated 384 adults in 2020 to 1,542 adults in 2023 following nonnative trout eradication. It is impossible to overstate the importance of conservation barriers in nonnative trout management within the context of native trout recovery efforts in the West. Recovery partners have demonstrated over the last two decades that they understand how to build and maintain durable conservation barriers and address nonnative trout invasions when they occur.

(9) Comment: One commenter stated that, in general, current land management plans being implemented by the USFS are generally vague and are not enforceable. They stated that “desirable conditions,” as outlined in Apache-Sitgreaves National Forests (ASNF) Land Management Plan are too broad and may not occur within timeframes beneficial to Apache trout. They identified the Black River Watershed Restoration Project as an example of how ongoing incompatible land uses (i.e., cattle grazing) have prevented streams from being restored. The commenter also stated that the conservation management plan described in our proposed rule is not enforceable and will open Apache trout stream habitat to further degradation if the species is delisted.

Our response: As discussed in this final rule in the Recovery Criteria section, although the CMP is a voluntary agreement, we anticipate the plan will be implemented into the foreseeable future. Signatories of the CMP all have pre-existing legal authority for land management and wildlife management across the entire range of the Apache trout. Furthermore, signatories to the plan have more than a 40-year track record of active, effective, and continuous voluntary Apache trout conservation work demonstrating an enduring commitment to the conservation of this species. The Apache Trout Recovery Plan and the CMP (USFWS 2009, entire; Apache Trout Cooperative Management Plan Workgroup 2021, entire) describe ways to enhance or restore stream and riparian habitats. Apache trout recovery partners (WMAT, AZGFD, USFWS, USFS, and Trout Unlimited) indicated their commitment to ensure the long-term persistence of Apache trout, restore and maintain quality instream habitats, ensure that land management is compatible with functioning watershed conditions, and provide and enhance sportfishing opportunities for Apache trout.

The SSA report analysis of 37 distinct threat factors identified grazing management as the 14th most important factor affecting the future condition of Apache trout. Additionally, as discussed above in comment response (2), there are few active livestock grazing allotments associated with Apache trout recovery streams and the USFS engages in active management to remove feral horses and stray cattle where they occur outside of authorized areas. The actions being undertaken to date to address degradation to habitat due to grazing have not impeded the species from achieving recovery. There are Apache trout habitat areas where habitat quality has been degraded by legacy grazing, especially in sensitive wet meadow habitats, and much of that area has already been protected with fencing exclosures.

Projects for new and rebuilt fencing exclosures of sensitive habitats and riparian plantings are planned on the Apache-Sitgreaves National Forests and Tribal lands. For example, Apache trout recovery partners are working cooperatively on projects to address degraded habitats with ungulate exclosure areas, riparian plantings, and instream habitat restoration projects along Burro, Centerfire, Hayground, and Thompson creeks, West Fork Black River, and South Fork Little Colorado River on the Apache Sitgreaves National Forests. Similar projects have already begun along Flash and Boggy/Lofer creeks on Tribal land. National Environmental Policy Act review for several of these beneficial projects fall under the umbrella of the Black River Watershed Restoration Project which describes many tools for improving watershed condition in the project area and are consistent with the objectives of the Apache-Sitgreaves National Forests Land Management Plan.

Background

A thorough review of the biological information on the Apache trout including taxonomy, life history, ecology, and conservation activities, as well as threats facing the species or its habitat is presented in our SSA report (USFWS 2022a, entire) and the revised recovery plan for Apache trout (USFWS 2009, entire), which are available at https://www.regulations.gov under Docket No. FWS-R2-ES-2022-0115. A summary of that information is presented here.

The Apache trout is a salmonid species endemic to the White Mountains region of east-central Arizona. The species is currently found in the White River, Black River, and the Little Colorado River drainages in the White Mountains of east-central Arizona, although the historical distribution is not known with certainty. Apache trout occupies headwater streams upstream of natural and conservation barriers, which likely reflects a truncated distribution from historical distributions due to nonnative trout, habitat alterations, and other factors (USFWS 2009, pp. 1, 6-16). Distinguishing characteristics of Apache trout include a fusiform (spindle-shaped) body and large dorsal fin, with spots on the body pronounced and often uniformly spaced both above and below the lateral line. Spots are circular in outline, are medium-sized, and appear slightly smaller than most interior subspecies of cutthroat trout (Oncorhynchus clarkii) but more like typical cutthroat trout than Gila trout (O. gilae) (Miller 1972, pp. 410-411). Yellow or yellow-olive colors predominate, with tints of purple and pink observable on live specimens. Two black spots are located horizontally on the eye before and aft of the pupil, creating the image of a black band through the eye. A red or pink lateral band is usually absent (Miller 1972, p. 414). Dorsal, pelvic, and anal fins have conspicuous cream or yellowish tips. Like most trout occupying small headwater streams, the Apache trout has been described as an opportunistic feeder, primarily feeding on various species of insects such as caddisflies (Trichoptera), mayflies (Ephemeroptera), stoneflies (Plecoptera), and beetles (Coleoptera) (Harper 1978, p. 108).

Recovery Criteria

Section 4(f) of the Act directs us to develop and implement recovery plans for the conservation and survival of endangered and threatened species unless we determine that such a plan will not promote the conservation of the species. Under section 4(f)(1)(B)(ii), recovery plans must, to the maximum extent practicable, include objective, measurable criteria which, when met, would result in a determination, in accordance with the provisions of section 4 of the Act, that the species be removed from the Lists of Endangered and Threatened Wildlife and Plants.

Recovery plans provide a roadmap for us and our partners on methods of enhancing conservation and minimizing threats to listed species, as well as measurable criteria against which to evaluate progress towards recovery and assess the species' likely future condition. However, they are not regulatory documents and do not substitute for the determinations and promulgation of regulations required under section 4(a)(1) of the Act. A decision to revise the status of a species or to delist a species is ultimately based on an analysis of the best scientific and commercial data available to determine whether a species is no longer an endangered species or a threatened species, regardless of whether that information differs from the recovery plan.

There are many paths to accomplishing recovery of a species, and recovery may be achieved without all of the criteria in a recovery plan being fully met. For example, one or more criteria may be exceeded while other criteria may not yet be accomplished. In that instance, we may determine that the threats are minimized sufficiently, and that the species is robust enough that it no longer meets the Act's definition of an endangered species or a threatened species. In other cases, we may discover new recovery opportunities after having finalized the recovery plan. Parties seeking to conserve the species may use these opportunities instead of methods identified in the recovery plan. Likewise, we may learn new information about the species after we finalize the recovery plan. The new information may change the extent to which existing criteria are appropriate for identifying recovery of the species. The recovery of a species is a dynamic process requiring adaptive management that may, or may not, follow all of the guidance provided in a recovery plan.

The Apache trout recovery plan identified two major areas of focus to achieve the long-term survival and viability of the species: protection of Apache trout habitat from various watershed alteration activities (e.g., forestry, livestock grazing, reservoir construction, agriculture, road construction, and mining) and protection from introduction of nonnative trout species that have resulted in hybridization, competition, and predation (USFWS 2009, p. v). To achieve recovery, the recovery plan identified criteria that assist in determining whether the Apache trout has recovered to the point that the protections afforded by the Act are no longer needed. These criteria are:

(1) Habitat sufficient to provide for all life functions at all life stages of 30 self-sustaining, discrete populations of pure Apache trout has been established and protected through plans and agreements with responsible land and resource management entities. These plans will address and serve to remedy current and future threats to Apache trout habitat.

(2) Thirty discrete populations of genetically pure Apache trout have been established and determined to be self-sustaining. A population will be considered self-sustaining by the presence of multiple age classes and evidence of periodic natural reproduction. A population will be considered established when it is capable of persisting under the range of variation in habitat conditions that occur in the restoration stream.

(3) Appropriate angling regulations are in place to protect Apache trout populations while complying with Federal, State, and Tribal regulatory processes.

(4) Agreements are in place between the Service, the AZGFD, and the WMAT to monitor, prevent, and control disease and/or causative agents, parasites, and pathogens that may threaten Apache trout.

Recovery Plan Implementation

The following discussion summarizes the recovery criteria and information on recovery actions that have been implemented under each delisting criterion.

Delisting Criterion 1: Habitat sufficient to provide for all life functions at all life stages of 30 self-sustaining, discrete populations of pure Apache trout has been established and protected through plans and agreements with responsible land and resource management entities. This criterion has been met.

Since the time of listing, the Service, in collaboration with WMAT, AZGFD, the USFS, and Trout Unlimited, have worked to maintain and restore riparian habitats where the Apache trout occurs. Multiple age classes are represented across the populations, which are indicative of healthy recruitment and stable populations from year to year. Although the average abundance of adults is fewer than 500 within most populations, the diversity of age classes suggests healthy survival and recruitment rates. Furthermore, adult individuals make up a significant share of the overall population, which is indicative that many fry and juveniles are able to survive to adulthood without the need for restocking from adjacent populations or hatcheries.

The habitat of Apache trout is managed, and land-use impacts on the species are reduced through environmental review of proposed projects. For example, the ASNF Land Management Plan incorporates desired conditions for aquatic habitats to contribute to the recovery of federally listed species and to provide self-sustaining populations of native species (ASNF 2015, pp. 16-26). Projects on ASNF lands also require National Environmental Policy Act review. WMAT also has land management plans to protect Apache trout populations. Alteration of logging practices, road closure and removal, and ungulate exclusion through fencing or retiring allotments have all been used to manage Apache trout habitat on the ANSFs and Fort Apache Indian Reservation (Robinson et al. 2004, p. 1; USFWS 2009, pp. 23-29).

The WMAT, AZGFD, ASNF, USFWS, and Trout Unlimited all signed the 2021 Apache Trout Cooperative Management Plan that has no expiration date and details how each agency will use their management authorities to conserve, protect, and manage Apache trout populations and habitat into the future. WMAT has sovereign authority to regulate fishing on the Fort Apache Indian Reservation which comprises 76 percent of Apache trout habitat. WMAT laws and regulations instituted land and stream closures prohibiting sportfishing of relict populations long before the Apache trout received protection under the Endangered Species Act. WMAT continues to prohibit sportfishing of recovery populations, and this policy is not expected to change. Additionally, the AZGFD provides for the continued protection and conservation of the Apache trout in the Arizona Wildlife Conservation Strategy (AZGFD 2022, entire).

Delisting Criterion 2: Thirty discrete populations of genetically pure Apache trout have been established and determined to be self-sustaining. This criterion has been met.

Compared to the time of listing when we identified 14 genetically pure populations, currently, the Apache trout consists of 30 genetically pure populations. The one population that was described as “pure-suspected” in the SSA report and proposed rule has been since analyzed and was found to be genetically pure (Mussmann 2024, pers. comm). These populations are comprised of both relict and replicate populations. A relict population of Apache trout is one that was originally discovered in a stream within the historical range of the species and is the species' original genetic stock. A replicate population of Apache trout is one that was established using individuals from a relict population or another replicate population that represents a relict genetic lineage. Replicate populations are usually established within the historical range of the species, including both streams that were originally unoccupied by Apache trout and streams where Apache trout have been extirpated. The relict populations have remained pure and are self-sustaining without the need for restocking since their discovery (Leon 2022, pers. comm.).

Following the initial introduction of 100 to 200 individuals, most of the replicate populations did not require additional introduction of individuals (USFWS 2022b, p. 58). However, periodic introductions of additional individuals from the same donor streams have been made in subsequent years in several populations to improve genetic diversity within replicated populations and to reduce impacts to donor streams from large, one-time transfers. Replicate populations were established as early as 1967 and as late as 2008.

In order to ensure that genetically pure populations of Apache trout are protected, conservation barriers that prohibit nonnative trout species from accessing upstream portions of occupied Apache trout habitat have been and will continue to be constructed and maintained per the CMP. The conservation barriers prevent nonnative trout from hybridizing with, competing with, and preying on Apache trout.

Delisting Criterion 3: Appropriate angling regulations are in place to protect Apache trout populations while complying with Federal, State, and Tribal regulatory processes. This criterion has been met.

Apache trout recovery streams on Tribal lands have not and will not be opened for angling in the future according to longstanding Tribal policy. Twenty-five of the 30 pure populations of Apache trout are located in whole (22) or in part (3) on Tribal lands accounting for approximately 76 percent of all occupied Apache trout recovery habitat. Apache trout streams on national forest lands are protected with fishing closures when populations are small and vulnerable, and with catch-and-release regulations in larger populations where harvest could still negatively impact the population. To generate public support for recovery of the species, AZGFD does provide put-and-take opportunities for Apache trout in Silver Creek, East Fork Black River, and West Fork Little Colorado River. WMAT provides similar opportunities in the North Fork White River, lower East Fork White River, Cibeque Creek, lower Paradise Creek, and lower Diamond Creek. Apache trout fisheries are also established in some lakes (e.g., Big Bear, Hurricane, Christmas Tree, Earl Park) to afford the public opportunities to harvest Apache trout, which also has the benefit of raising public awareness for the species.

Delisting Criterion 4: Agreements are in place between the Service, AZGFD, and WMAT to monitor, prevent, and control disease and/or causative agents, parasites, and pathogens that may affect Apache trout. This criterion has been met.

By December 2021, the Service, AZGFD, USFS, WMAT, and Trout Unlimited signed the CMP for Apache trout. The goal of the CMP is to ensure the long-term persistence of the Apache trout by monitoring and maintaining existing populations, establishing new populations, restoring and maintaining existing habitats, and conducting disease, parasite, and pathogen prevention and monitoring activities. Although the CMP is a voluntary agreement among the cooperating agencies, it is reasonable to conclude the plan will be implemented into the future for multiple reasons.

First, each of the cooperating agencies have established a long record of engagement in conservation actions for the Apache trout. Many of the management activities, such as the construction of conservation barriers, have been ongoing since at least the 1990s (USFWS 2022b, pp. 70-73). Second, implementation of the CMP is already underway. The recovery partners are constructing and maintaining conservation barriers, removing invasive species, planning for restocking Apache trout as needed, and repairing and restoring habitats. Third, the conservation mission and authorities of these agencies authorize this work even after the species is delisted. Once the Apache trout is delisted the PDM plan will be initiated and will be adhered to by the CMP signatories and other recovery partners for at least 10 years (Dauwalter et al. 2024, entire). Specifically, the PDM plan prescribes for monitoring of Apache trout populations to ensure that the number of fish in populations remains stable and prescribes for ongoing assessments of conservation barrier effectiveness in protecting Apache trout from nonnative trout species. Fourth, there is a practical reason to anticipate implementation of the CMP into the future: the plan's actions are technically not complicated to implement, and costs are relatively low. We also have confidence that the actions called for in the CMP will be effective in the future because they have already proven to be effective as evidenced by the information collected from recent habitat actions and associated monitoring (USFWS 2022b, entire). Lastly, if the CMP is not adhered to by the cooperating agencies or an evaluation by the Service suggests the habitat and population numbers are declining, the Service would evaluate the need to again add the species to the List (i.e., “relist” the species) under the Act. Taken together, it is therefore reasonable to conclude that the CMP will be implemented as anticipated, and that the long-term recovery of Apache trout will be maintained and monitored adequately, thus meeting the conditions of this criterion.

Regulatory and Analytical Framework

Regulatory Framework

Section 4 of the Act (16 U.S.C. 1533) and the implementing regulations in title 50 of the Code of Federal Regulations set forth the procedures for determining whether a species is an endangered species or a threatened species, issuing protective regulations for threatened species, and designating critical habitat for endangered species. On April 5, 2024, jointly with the National Marine Fisheries Service, the Service issued a final rule that revised the regulations in 50 CFR part 424 regarding how we add, remove, and reclassify endangered and threatened species and what criteria we apply when designating listed species' critical habitat (89 FR 23919). This final rule is now in effect and is incorporated into the current regulations. Our analysis for this decision applied our current regulations. Given that we proposed delisting this species under our prior regulations (revised in 2019), we have also undertaken an analysis of whether the decision would be different if we had continued to apply the 2019 regulations and we concluded that the decision would be the same. The analyses under both the regulations currently in effect and the 2019 regulations are available on https://www.regulations.gov.

The Act defines an “endangered species” as a species that is in danger of extinction throughout all or a significant portion of its range, and a “threatened species” as a species that is likely to become an endangered species within the foreseeable future throughout all or a significant portion of its range. The Act requires that we determine whether any species is an endangered species or a threatened species because of any of the following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

These factors represent broad categories of natural or human-caused actions or conditions that could have an effect on a species' continued existence. In evaluating these actions and conditions, we look for those that may have a negative effect on individuals of the species, as well as other actions or conditions that may ameliorate any negative effects or may have positive effects. The determination to delist a species must be based on an analysis of the same five factors.

We use the term “threat” to refer in general to actions or conditions that are known to or are reasonably likely to negatively affect individuals of a species. The term “threat” includes actions or conditions that have a direct impact on individuals (direct impacts), as well as those that affect individuals through alteration of their habitat or required resources (stressors). The term “threat” may encompass—either together or separately—the source of the action or condition or the action or condition itself.

However, the mere identification of any threat(s) does not necessarily mean that the species meets the statutory definition of an “endangered species” or a “threatened species.” In determining whether a species meets either definition, we must evaluate all identified threats by considering the species' expected response and the effects of the threats—in light of those actions and conditions that will ameliorate the threats—on an individual, population, and species level. We evaluate each threat and its expected effects on the species, then analyze the cumulative effect of all of the threats on the species as a whole. We also consider the cumulative effect of the threats in light of those actions and conditions that will have positive effects on the species—such as any existing regulatory mechanisms or conservation efforts. The Secretary determines whether the species meets the definition of an “endangered species” or a “threatened species” only after conducting this cumulative analysis and describing the expected effect on the species.

The Act does not define the term “foreseeable future,” which appears in the statutory definition of “threatened species.” Our implementing regulations at 50 CFR 424.11(d) set forth a framework for evaluating the foreseeable future on a case-by-case basis which is further described in the 2009 Memorandum Opinion on the foreseeable future from the Department of the Interior, Office of the Solicitor (M-37021, January 16, 2009; “M-Opinion,” available online at https://www.doi.gov/sites/doi.opengov.ibmcloud.com/files/uploads/M-37021.pdf). The foreseeable future extends as far into the future as we can make reasonably reliable predictions about the threats to the species and the species' responses to those threats. We need not identify the foreseeable future in terms of a specific period of time. We will describe the foreseeable future on a case-by-case basis, using the best available data and taking into account considerations such as the species' life-history characteristics, threat-projection timeframes, and environmental variability. In other words, the foreseeable future is the period of time over which we can make reasonably reliable predictions. “Reliable” does not mean “certain”; it means sufficient to provide a reasonable degree of confidence in the prediction, in light of the conservation purposes of the Act.

Analytical Framework

The SSA report documents the results of our comprehensive biological review of the best scientific and commercial data regarding the status of the species, including an assessment of the potential stressors to the species. The SSA report does not represent our decision on whether the species should be delisted. However, it does provide the scientific basis that informs our regulatory decisions, which involve the further application of standards within the Act and its implementing regulations and policies.

To assess the Apache trout's viability, we used the three conservation biology principles of resiliency, representation, and redundancy (Smith et al. 2018, pp. 306-310). Briefly, resiliency is the ability of the species to withstand environmental and demographic stochasticity (for example, wet or dry, warm or cold years), redundancy is the ability of the species to withstand catastrophic events (for example, droughts, large pollution events), and representation is the ability of the species to adapt to both near-term and long-term changes in its physical and biological environment (for example, climate conditions, pathogen). In general, species viability will increase with increases in resiliency, redundancy, and representation (Smith et al. 2018, p. 306). Using these principles, we identified the species' ecological requirements for survival and reproduction at the individual, population, and species levels, and described the beneficial and risk factors influencing the species' viability.

The SSA process can be categorized into three sequential stages. During the first stage, we evaluated individual species' life-history needs. The next stage involved an assessment of the historical and current condition of the species' demographics and habitat characteristics, including an explanation of how the species arrived at its current condition. The final stage of the SSA involved making predictions about the species' responses to positive and negative environmental and anthropogenic influences. Throughout all of these stages, we used the best available information to characterize viability as the ability of a species to sustain populations in the wild over time, which we then used to inform our regulatory decision.

The following is a summary of the key results and conclusions from the SSA report; the full SSA report can be found on the Service website at https://ecos.fws.gov/ecp/species/3532 and at https://www.regulations.gov under Docket No. FWS-R2-ES-2022-0115.

Summary of Biological Status and Threats

In this discussion, we review the biological condition of the Apache trout and its resources, and the threats that influence the species' current and future condition, in order to assess the species' overall viability and the risks to that viability. In addition, the SSA report documents our comprehensive biological status review for the species, including an assessment of the potential threats to the species. The following is a summary of this status review and the best available information gathered since that time that have informed this decision.

The primary threats affecting the Apache trout are the invasion of nonnative trout species into Apache trout habitat and the effects of climate change, which are projected to result in more wildfire and debris runoff in streams. Introgression of nonnative trout species into Apache trout habitat has resulted in hybridization of certain populations. Additionally, nonnative trout species compete with the Apache trout, and certain species have been known to prey on the Apache trout. Wildfires in the region can result in ash and debris flow, creating unsuitable conditions for the Apache trout and possibly resulting in fatalities and extirpation of populations. To address these major threats, management actions, including construction of conservation barriers, as well as restocking and restoring habitats, have been implemented.

Nonnative Species

Nonnative species, especially nonnative salmonids, remain one of the largest threats to the Apache trout (Rinne 1996, p. 152). Over 61 million nonnative sport fishes have been stocked into lakes in the Little Colorado and Black River drainages since the 1930s (Rinne and Janisch 1995, p. 398). Over 8 million nonnative sport fishes were introduced directly into the Little Colorado and Black rivers and their tributaries since the 1930s, and many of these were nonnative salmonids (Rinne and Janisch 1995, p. 398). Recent stocking practices have been altered to reduce interactions with, and risks to, native species, such as using triploid (sterile) rainbow trout for stocking into open water systems (EcoPlan Associates 2011, p. 21). However, threats remain due to acclimated nonnative populations from historical stockings.

As discussed below, hybridization with rainbow trout and cutthroat trout can lead to functional extirpation of Apache trout populations. Competition with and predation by brown trout and brook trout are also of high concern. While no published studies have documented competition and predation impacts on Apache trout by nonnative salmonids such as brown trout and brook trout, it is generally accepted that the negative interaction has led to reduction or extirpation of some populations (Rinne 1996, p. 152). Appendix C of the SSA report analyzes the negative effect of nonnative trout presence on occupancy of juvenile Apache trout at the site scale in fish surveys (USFWS 2022a, p. 134-137).

Genetic Factors (Population)

Discussed below are the three genetic factors that pose a risk to the viability of Apache trout populations: hybridization, inbreeding, and low genetic variability.

Hybridization

Hybridization can introduce traits that are maladaptive, disrupt adaptive gene complexes, or result in outbreeding depression (Hedrick 2000, entire). Hybridization can also lead to the loss of species-specific alleles, and hybridization with Pacific trout species has long been recognized as a threat to the viability of native trout species (or subspecies) (Behnke 1992, p. 54). This has resulted in arguments that only genetically pure populations should be considered a part of the species or subspecies (Allendorf et al. 2004, p. 1212).

A long history of nonnative trout stocking in Arizona has led to hybridization between Apache trout and rainbow trout, even to the extent of genetic extirpation, and it is one of the main reasons for the historical decline of Apache trout (Rinne and Minckley 1985, pp. 285, 288-291; Carmichael et al. 1993, pp. 122, 128; Rinne 1996, pp. 150-152). The major threat of hybridization is the reason the 2009 revised recovery plan lists as an objective the establishment and/or maintenance of 30 self-sustaining, discrete populations of genetically pure Apache trout within its historical range (USFWS 2009, pp. vi, vii, 5, 22). That same objective has largely been in place since the first recovery plan was developed for the species in 1979 (USFWS 1979, p. 15). A comprehensive assessment of the genetic purity of naturally reproducing Apache trout populations in 1993 showed only 11 of 31 streams were deemed to be generically pure (Carmichael et al. 1993, p. 128). At the time the 2009 revised recovery plan was completed, 28 populations of genetically pure Apache trout were extant (USFWS 2009, p. 2). The proposed delisting rule for Apache trout indicated that there were 29 genetically pure populations (88 FR 54548; August 11, 2023); one population described as “pure-suspected” in the proposed delisting rule has since been confirmed to be genetically pure. Currently, the Apache trout consists of 30 genetically pure populations.

Inbreeding and Low Genetic Diversity

Small populations are more likely to exhibit inbreeding and low genetic diversity. Inbreeding often results in inbreeding depression and expression of recessive and deleterious alleles (Wang et al. 2002, p. 308). Cutthroat trout are an example of inland trout in North America where inbreeding has been documented for some small, isolated populations (Metcalf et al. 2008, p. 152; Carim et al. 2016, pp. 1368-1372). Low genetic diversity limits the ability of populations to adapt to changing and novel environments (Allendorf and Ryman 2002, pp. 62-63).

The one study of genetic diversity in Apache trout showed strong distinction among three genetic lineages (Soldier, Ord, and East Fork White River lineages) represented by the nine populations studied, but genetic diversity was low within populations (Wares et al. 2004, pp. 1896-1897). Low genetic diversity within populations suggests that they were founded with a small number of individuals. Replicate populations of Apache trout have often been established with a few hundred individuals, with an unknown subset successfully reproducing. No studies have evaluated inbreeding in Apache trout populations, or how genetic management (e.g., genetic rescue) may benefit Apache trout populations, and these topics remain of management interest (Wang et al. 2002, pp. 308, 313-315; Whiteley et al. 2015, pp. 42-48; Robinson et al. 2017, pp. 4418-4419, 4430).

Climate Change, Wildfire, Stream Conditions

The climate has changed when compared to historical records, and it is projected to continue to change due to increases in atmospheric carbon dioxide and other greenhouse gasses (U.S. Global Change Research Program 2017, pp. 10-11). The American Southwest has the hottest and driest climate in the United States. The U.S. Fourth National Climate Assessment suggests that warming temperatures will lead to decreasing snowpack, increasing frequency and severity of droughts, and increasing frequency and severity of wildfires, and these in turn will result in warmer water temperatures, reduced streamflows (especially baseflows), and increased risk of fire-related impacts to aquatic ecosystems (Gonzales et al. 2018, pp. 1133-1136; Overpeck and Bonar 2021, p. 139). In fact, the current drought in the western United States is one of the worst in the last 1,200 years and is exacerbated by climate warming (Williams et al. 2020, p. 317). Climate warming will make droughts longer, more severe, and more widespread in the future.

An eight-fold increase in the amount of land burned at high severity during recent wildfires, including in the southwestern United States, has been observed and it is likely that warmer and drier fire seasons in the future will continue to contribute to high-severity wildfires where fuels remain abundant (Parks and Abatzoglou 2021, p. 6). Wildfires have increased in frequency and severity in Arizona and New Mexico primarily due to changes in climate but also because of increased fuel loads (Mueller et al. 2020, p. 1; Parks and Abatzoglou 2021, pp. 5-7), including within the historical range of the Apache trout (Dauwalter et al. 2017a, entire). Larger, more frequent, and more severe wildfires accompanying a changing climate together may drive conversions in vegetation type from forest to shrub or grassland because of higher tree mortality, limited seed dispersal in larger burn patches, soil damage that reduces seedling establishment, and a changing climate that reduces seedling survival—all of which combine to inhibit forest regeneration (Keeley et al. 2019, p. 775; Coop et al. 2020, p. 670). Wildfires can result in ash flows that create unsuitable water quality conditions for salmonids, and high-intensity fires in steep watersheds are likely to result in channel-reorganizing debris flows (Gresswell 1999, pp. 210-211; Cannon et al. 2010, p. 128). Approximately 30 percent of forests in the Southwest are projected to have an elevated risk of conversion to shrubland and grassland because of increased fire severity due to climate change (Parks et al. 2019, p. 9). Conifer reduction in the White Mountains could reduce stream shading important for maintaining suitable stream temperatures for Apache trout (Baker and Bonar 2019, pp. 862-864).

In the absence of existing peer-reviewed science on the effects of climate change on the Apache trout itself, we applied the vulnerability assessment approach that was used to evaluate wildfire and temperature warming vulnerability in Gila trout streams and applied it to Apache trout populations (USFWS 2022a, pp. 121-130). The analysis suggests that streams such as West Fork Little Colorado River have a high risk of crown fire (wildfire spreading at the canopy level) and subsequent debris flows. Other streams in the Wallow Fire perimeter have a lower risk of future wildfires due to reduced fuel loads.

To evaluate stream temperature risk due to climate warming, we first evaluated Apache trout occupancy across all habitat patches and found that 95 percent of all occupied patches occurred in reaches at or below 16.5 degrees Celsius (°C) (61.7 degrees Fahrenheit (°F)) mean July water temperatures. Then all streams were modeled to contain reaches where mean July water temperatures were less than or equal to 16.5 °C (61.7 °F), a conservative temperature threshold, based on temperature projections for the 2080s from an ensemble global climate model for the A1B emissions scenario (i.e., middle-of-the-road scenario). Big Bonito Creek, Fish Creek, and Boggy/Lofer Creeks contained the largest amount of habitat with mean July temperatures less than 16.5 °C (61.7 °F) in the 2080s. The East Fork Little Colorado River, Snake Creek, Rock Creek, Rudd Creek, and South Fork Little Colorado River had the lowest percent of habitat with mean July temperatures less than or equal to 16.5 °C (61.7 °F) in the 2080s.

Most Apache trout habitat patches are not currently limited by warm stream temperatures because the habitat designated for species recovery is upstream of fish passage barriers (Avenetti et al. 2006, p. 213; USFWS 2009, p. 19; USFWS 2022b, pp. 118-127). Based on our analysis, these habitat patches are far enough upstream to also not be limited by warm stream temperatures into the 2080s. Some streams may even be currently limited by cold temperatures for juvenile Apache trout, and these areas may in fact benefit from warmer stream temperatures at least up until the 2080s.

Cumulative Impacts

We note that, by using the SSA framework to guide our analysis of the scientific information documented in the SSA report, we have not only analyzed individual effects on the species, but we have also analyzed their potential cumulative effects. We incorporate the cumulative effects into our SSA analysis when we characterize the current and future conditions of the species. To assess the current and future conditions of the species, we undertake an iterative analysis that encompasses and incorporates the threats individually and then accumulates and evaluates the effects of all the factors that may be influencing the species, including threats and conservation efforts. Because the SSA framework considers not just the presence of the factors, but to what degree they collectively influence risk to the entire species, our assessment integrates the cumulative effects of the factors and replaces a standalone cumulative effects analysis.

Conservation Efforts and Regulatory Mechanisms

Several conservation actions are routinely undertaken to protect, restore, and re-establish Apache trout populations across the species' historical range and, in one case, outside of the historical range. Discussed below are the major past and ongoing conservation efforts for Apache trout, which include removal of nonnative trout species, reintroduction of Apache trout, habitat maintenance and restoration, hatchery propagation, and angling regulations. These activities are managed under the CMP. The CMP will remain in force until terminated by mutual agreement of signed parties. Any involved party may withdraw from this plan on 30 days' written notice to the other signatories. Amendments to the CMP may be proposed by any involved party and will become effective upon written approval by all partners.

Nonnative Trout Removal

Removal of nonnative salmonids often occurs after conservation barriers are constructed and before Apache trout are reintroduced, or removals are done when nonnative salmonids have invaded an extant Apache trout population. As noted above, conservation barriers are artificial barriers built to separate upstream populations of Apache trout from downstream populations where other trout species and hybrids are found. These downstream populations are managed to provide sportfishing opportunities. Removal is commonly done using piscicides (chemicals that are poisonous to fish) or electrofishing. A few studies have documented the higher effectiveness of piscicides on removing nonnative salmonids from Apache trout streams, although more than one treatment may be required (Rinne et al. 1981, p. 78; Kitcheyan 1999, pp. 16-17).

Electrofishing (often referred to as mechanical removal) is also used to remove nonnative fishes where piscicides have not been approved for use, or where populations of Apache trout are sympatric with nonnative trout, and it is not desirable to eliminate Apache trout simultaneously with nonnative trout. For example, electrofishing was used from 2018 to 2021, to remove over 14,670 brook trout and 3,932 brown trout from 9 Apache trout streams, with successful eradication suspected in some streams that will be later confirmed with future electrofishing or environmental DNA surveys (Manuell and Graves 2022, p. 8).

Piscicides are typically more effective at ensuring all fish are removed, which is important because nonnative populations can become reestablished if only a few individuals survive (Thompson and Rahel 1996, pp. 336-338; Finlayson et al. 2005, p. 13; Meyer et al. 2006, p. 858). In contrast, electrofishing removal is most effective in small stream systems with simple habitat (Meyer et al. 2006, p. 858). Environmental DNA surveys are conducted to confirm presence or absence of target organisms; this technique is often used in native trout conservation projects to help locate any remaining nonnative fish and target them for removal using either electrofishing or secondary applications of piscicides (Carim et al. 2020, pp. 488-490).

Reintroduction

Apache trout are typically reintroduced after the habitat is protected by a conservation barrier and nonnative salmonids have been removed. Apache trout populations are usually established using fish from another population, although hatchery stocks have been used to establish populations as well. The donor stream is selected, in part, based on the number of fish in that population so that removing some does not jeopardize donor population viability; donor stream selection is also based on the need to replicate relict populations to enhance redundancy of those lineages. Planning efforts are underway to establish additional populations where feasible, for example in Fish Creek, Hayground Creek, Home Creek, and the lower West Fork-Black River. Historically, 100 to 200 fish have been used to establish populations, but there is evidence that this number of founding individuals has resulted in the low genetic diversity observed in some populations (Wares et al. 2004, pp. 1896-1897). Future populations will be established using larger total numbers over several years to maximize genetic diversity while minimizing impacts to donor populations (USFWS 2021, p. 13).

Habitat Management and Restoration

Past habitat surveys and anecdotal observations identified stream segments in poor condition and in need of protection and restoration (Carmichael et al. 1995, p. 116; Robinson et al. 2004, pp. 1-3, 14-17). The subbasins where Apache trout are found are managed by multiple agencies at the Federal, State, and Tribal level. The management of the individual subbasins are as follows: Black River (WMAT, USFS/AZGFD), Bonito Creek (WMAT), East Fork White River (WMAT), North Fork White River (WMAT), Diamond Creek (WMAT), Little Colorado River (USFS/AZGFD), and Colorado River (AZGFD). Of the 30 genetically pure populations, 16 relict and 6 replicated populations occur only on WMAT lands, 1 relict and 1 replicated population occur on both WMAT and USFS/AZGFD managed lands (Soldier Creek and upper West Fork Black River, respectively), 5 replicated populations occur only on USFS/AZGFD managed lands, and 1 replicated population occurs on both San Carlos Apache Tribe and USFS/AZGFD managed lands (Bear Wallow Creek).

The habitat of Apache trout is managed to ameliorate land-use impacts through environmental review of proposed projects. For example, WMAT has land management plans that protect Apache trout populations and implement habitat restoration projects. Projects occurring on or adjacent to Apache trout habitat include alteration of logging practices, road closure and removal, and ungulate exclusion through fencing or retiring allotments, and all have been reviewed for potential impacts to Apache trout habitat on the ASNF and Fort Apache Indian Reservation (Robinson et al. 2004, entire; USFWS 2009, p. 23).

The Southwest Region of the USFS has the Riparian and Aquatic Ecosystem Strategy (Strategy; USFS 2019, entire), and restoration of aquatic habitat is identified through site-specific land management actions, such as the currently ongoing Black River Restoration Project. Working with partners on such actions is outlined in the Strategy (USFS 2019, pp. 17-18).

Hatcheries

Hatcheries have been used for Apache trout conservation and to establish sportfishing opportunities in lakes and streams. Apache trout from Williams Creek National Fish Hatchery have been used to establish populations including those in the West Fork Little Colorado and West Fork Black rivers, but they have been most often used to provide sportfishing opportunities in lakes and streams on the Fort Apache Indian Reservation. Progeny from the Apache trout broodstock at Williams Creek National Fish Hatchery are also transferred annually, at the direction of WMAT, to be reared at Arizona's Silver Creek and Tonto Creek hatcheries and stocked to support sportfishing on State-managed lands. This broodstock is expected to be used to establish additional recovery populations in the future due to improvements in genetic fitness and representation following several years of incorporating wild milt (fish semen) into the broodstock program (2017-present).

Angling and Harvest Regulations

Apache trout streams are largely protected with fishing closures when populations are small and vulnerable, or by catch-and-release regulations in larger populations where harvest could negatively impact the population. WMAT does not allow any fishing to occur in areas occupied by Apache trout recovery populations. Both WMAT and AZGFD provide put-and-take opportunities for Apache trout in multiple lakes and streams to afford the public opportunities to harvest Apache trout and generate public awareness and support for recovery of the species.

Emergency Contingency Plan

Wildfire, drought, nonnative trout invasions (e.g., barrier failure), and disease can threaten the viability and genetic integrity of Apache trout populations. We and our partners will continue to track these threats during the monitoring described in the CMP or through other monitoring and reporting systems. If needed, we and our partners in the CMP will transport individual fish to other streams or hatcheries with suitable isolation facilities until they can be repatriated into their original or an alternate site (USFWS 2021, p. 13).

Current Condition

Resiliency—Demographic and Habitat Factors

Resiliency references the ability of a species or population to bounce back from disturbances or catastrophic events, and is often associated with population size, population growth rate, and habitat quantity (patch size) and quality (USFWS 2016, p. 6).

Three demographic and six habitat factors were used to describe the current condition (status) and overall resiliency of Apache trout populations. These factors are commonly used to describe the health and integrity of native trout populations in the western United States (Williams et al. 2007, pp. 478-481; USFWS 2009, pp. 17-22; Dauwalter et al. 2017a, pp. 1-2). The three demographic factors are genetic purity, adult population size, and recruitment variability. The six habitat factors are stream length occupied, July temperature, percent of stream intermittency, habitat quality, nonnative trout presence, and barrier effectiveness.

Hybridization can introduce traits that are maladaptive or result in outbreeding depression. Thus, often only genetically pure populations are considered to be part of a species for conservation purposes. Apache trout populations were classified using the results of the most recent genetic testing for the presence of nonnative trout alleles (rainbow trout and cutthroat trout) when available (Carmichael et al. 1993, p. 127; Carlson and Culver 2009, pp. 5-9; Weathers and Mussmann 2020, pp. 4-7; Weathers and Mussmann 2021, pp. 4-7). Genetic material (e.g., fin clips) is often collected during population monitoring, or it is collected during surveys targeting fish for genetic testing if there is evidence that barriers are compromised or other evidence suggests that hybridizing species (rainbow trout and cutthroat trout) or hybrid individuals may be present (e.g., from visual assessment). In the absence of genetic testing, the presence of hybridizing species, presence of hybrid phenotypes, or professional judgment based on putative barrier effectiveness were used to classify populations as being genetically pure or hybridized.

Adult population size is the estimated number of adult Apache trout (greater than or equal to 130-mm TL) in a population in the most recent year of population monitoring. Before 2016, estimates of streamwide adult abundance were made from monitoring data collected under the basinwide visual estimation technique protocol (Dolloff et al. 1993, pp. v-17), and in a few cases, from information collected during general aquatic wildlife surveys (e.g., Robinson et al. 2004, pp. 3-13) or from electrofishing data (catch per single electrofishing pass) when collecting tissues for genetic analysis (such as was used in Carlson and Culver 2009). Since 2016, estimates of adult abundance have been based on an updated systematic sampling design (Dauwalter et al. 2017a, entire). Recruitment variability seeks to quantify the number of size classes present. The presence of individuals in more size (and therefore age) classes is indicative of more stable recruitment from year to year, which indicates that populations are more able to withstand year-to-year environmental variability (stochasticity; Maceina and Pereira 2007, pp. 121-123). Length frequency data from monitoring surveys were used to determine the number of size classes present.

The length of an occupied stream, often referred to as patch size, was measured in kilometers using the National Hydrography Dataset (1:24,000 scale), and upstream and downstream extents were typically defined by experts as the extent of occupancy from fish survey data, suitable habitat, or barriers to fish passage (conservation barriers). Extent of occupied habitat has been shown to be positively associated with the probability of population persistence (e.g., viability, extinction probability) for western native trout (Harig et al. 2000, pp. 997-1000; Hilderbrand and Kershner 2000, pp. 515-518; Finlayson et al. 2005, p. 13), and it has been used as an indicator of persistence in indices of population health and as an indicator of translocation success (Harig and Fausch 2002, pp. 546-548; Williams et al. 2007, pp. 479-480; Cook et al. 2010, pp. 1505-1508).

We selected July temperature as a measurement of habitat quality because the Apache trout, like other salmonids, is a cold-water stenotherm (a species that can survive only within a narrow range of temperature). Under Climate Change, Wildfire, Stream Conditions, above, we highlight the thermal tolerance and habitat suitability values derived from several laboratory and field studies of Apache trout. The maximum mean July temperature in habitat extent occupied by each Apache trout population is based on modeled average July temperatures predicted for each 1-km stream segment in Arizona from the NorWeST dataset (Isaak et al. 2017, pp. 7-13). The NorWeST dataset predicts mean August temperatures (average of mean daily temperatures for the month of August) for each 1-km (0.6 mi) stream segment in the National Hydrography Dataset (1:100,000 scale). These predictions were adjusted based on an empirical relationship between mean August and mean July (monthly mean of mean daily temperatures) temperatures in Apache trout streams from data collected by USFS on ASNF.

Intermittency percentage is the percent of occupied habitat extent estimated to become intermittent during severe drought years. The percent of stream length occupied that becomes intermittent (dry) during severe drought years due to low natural flows, decreasing flow trends in recent years, anthropogenic impacts to flow, or other factors. The percentage was based on professional judgment and knowledge of the habitat. The southwestern United States is a naturally warm and dry environment with reduced surface water resources that may subside due to low annual precipitation (snowpack and rainfall) and interactions with local geology (Long et al. 2006, pp. 90-94). The region is currently in a megadrought that has large consequences for streamflows (Williams et al. 2020, p. 314), and other researchers highlighted the time period from 2000 to 2003 as a severe drought period (Hoerling and Eischeid 2007, p. 2).

Habitat quality is the condition of riparian and instream habitat throughout the occupied habitat extent. Stream habitat quality was classified based on professional judgment at the whole stream scale or by segment and then computed as a weighted average (weighted by length).

The presence of rainbow trout, brown trout, brook trout, or cutthroat trout within the habitat accessible to the Apache trout population (or defined habitat extent) is either confirmed or not present. Rainbow trout and cutthroat trout have been documented to hybridize with Apache trout (Carmichael et al. 1993, p. 128), and brown trout and brook trout compete with and prey on Apache trout, thus reducing the carrying capacity of habitat to support Apache trout (Carmichael et al. 1995, p. 114). Presence of each species is attributed based on survey data, angler reports, anecdotal information, and, in some cases, barrier effectiveness and proximity of nonnative species and likelihood of invasion upstream of ineffective barriers.

Barriers were classified as functional or nonfunctional, and functionality was classified as known or suspected. Functionality was classified based on documented presence of nonnative trout above a barrier, documented movement of marked fish from below to above a barrier, known streamflow paths around or through barriers, poor structural integrity, or other factors influencing perceived functionality based on professional judgment. On some streams, more than one conservation barrier has been constructed to provide functional redundancy and security due to possible failure, as well as to allow management flexibility for controlling nonnative trout invasions or conducting nonnative trout removals (mechanical or chemical).

Resiliency

The resiliency of Apache trout populations (and habitats) was assessed using a 4.0 grading scale and grade-point-average (GPA) framework. Using this framework, each Apache Trout population received a grade and grade point equivalents based on the current condition of the three demographic and six habitat factors described above. The condition of each factor was graded based on the results of expert elicitation (see USFWS 2022a, pp. 85-96 for how this grading scale was used to evaluate Apache trout population resiliency).

Demographic and habitat factor data show that relict and hybridized Apache trout populations occur in two major river basins (the Black River and White River basins), replicate populations occur in all major basins (including one replicate population outside the species' historical range in the Colorado River), and unoccupied recovery streams occur in the Little Colorado River and Black River basins. Relict populations occur in five of six subbasins to which they are native. Hybridized populations occur in the Black River and Diamond Creek subbasins. As mentioned previously, of the 38 extant populations of Apache trout, 30 populations of Apache trout are known to be pure, (81.1 percent). One of eight (12.5 percent) populations has been confirmed as hybridized through genetic testing, whereas seven have been assumed to be hybridized because of known barrier failures and invasion of rainbow trout.

A summary of demographic factors showed a majority of genetically pure Apache trout populations to have adult (greater than 130-mm [5.1 in] TL) population sizes of between 100 and 1,000 individuals (see table 11 in USFWS 2022b, p. 86); one population, East Fork White River, was estimated to have more than 2,200 adults (see table 11 in USFWS 2022b, p. 86). Most populations showed consistent recruitment, with four or five size classes (and presumably year classes) present, which suggests they are stable and self-sustaining populations (see figure 18C in USFWS 2022b, p. 83).

Habitat factors for Apache trout populations showed a wide range of current conditions. The extent of stream occupied by Apache trout populations ranged from 0.4 km (0.25 mi) to 30.1 km (18.7 mi); most were less than 14 km (8.7 mi). Maximum mean July temperatures in occupied habitat were less than or equal to 15.5 °C (59.9 °F) for relict and replicate populations, whereas unoccupied streams and hybrid populations had warmer maximum mean July temperatures up to 17.5 °C (63.5 °F). Most populations or unoccupied streams exhibited little intermittency during severe drought, but two hybridized populations and one unoccupied stream were estimated to be more than 50 percent intermittent (up to 95 percent). Unoccupied streams and streams occupied by hybrid populations had the lowest habitat quality (in part due to 2011 Wallow Fire), while a majority of relict and replicate populations inhabited high-quality habitat. Nineteen Apache trout populations were sympatric with brown trout, 7 with rainbow trout, and 2 with brook trout. Thirty-six populations or unoccupied recovery streams currently have conservation barriers to isolate them from nonnative fishes downstream; 31 of these populations are protected by barriers that are known or suspected to be functional; 10 populations have a second barrier downstream for added protection across all population types (relict, replicate, hybrid, unoccupied).

Overall, the current condition of the 30 genetically pure Apache trout populations averaged 2.89 (B average) on a 4.0 scale. Based on the demographic and habitat factor grade point equivalents for each population, Apache trout populations were more often limited by demographic factors than habitat factors. Adult (greater than 130-mm TL) population size was most frequently the limiting demographic factor. Unoccupied streams (e.g., Home Creek) had demographic GPAs equaling 0.0. East Fork White River had the highest demographic GPA (4.00). Likewise, presence of nonnative trout was frequently a limiting habitat factor. Centerfire and Stinky creeks on the Apache-Sitgreaves National Forests (ASNF) had the lowest habitat factor (GPA of 1.33); Deep Creek (WMAT) had the highest habitat factor (GPA of 3.50).

Redundancy and Representation

Redundancy and representation and for Apache trout were evaluated by quantifying the presence of relict populations, and their replication on the landscape, as putative genetic lineages at the subbasin level. Redundancy was measured as the replication of relict lineages into new streams by subbasin. Replication of relict populations, and thus redundancy of purported relict subbasin lineages, was measured both within and outside of the native subbasin for each subbasin genetic lineage. The number of populations that meet certain persistence, abundance, and recruitment criteria can also be used to quantify population redundancy by subbasin or a larger basin unit (e.g., geographic management unit). Representation was based on presence of genetically pure relict populations from each subbasin.

Tracking the redundancy and representation of relict populations by subbasin, as subbasin lineages, is a surrogate for the assumed unique genetic diversity, and presumed unique adaptation potential, that is often found to be structured around the hierarchical nature of drainage basins (Vrijenhoek et al. 1985, pp. 400-402; Wares et al. 2004, pp. 1890-1891, 1897). While such genetic structuring is evident in Apache trout for the nine populations (and three genetic lineages) that have been studied (Wares et al. 2004, pp. 1895-1896), no comprehensive rangewide study of genetic diversity has been conducted across all genetically pure populations. Accounting for relict Apache trout populations in this way presumably reflects the representation and redundancy of genetic diversity, and thus adaptive potential, of the species in each subbasin in which it is native.

When quantified in this way, extant relict populations exist in five of six subbasins within the historical range of the Apache trout; only the Little Colorado River subbasin is no longer represented within an extant relict lineage. The East Fork White River subbasin has the highest level of redundancy and representation; it contains six relict populations still extant within the subbasin and four replicated populations in other subbasins that were founded with individuals from relict populations native to the East Fork White River subbasin. Of the subbasins containing relict populations, the Black River and Diamond Creek subbasins contain the lowest level of redundancy and representation, with three populations each occurring on the landscape (Black River: one relict and two replicates; Diamond Creek: two relicts and one replicate).

Future Condition

The primary threats affecting Apache trout viability include invasion by nonnative trout and climate change, which encompasses warmer stream temperatures, more frequent and severe droughts, increased wildfire frequency and post-fire debris flow, reduced snowpack and increased rain on snow events, and more intense summer monsoon precipitation. A 30-year future (which equates to approximately six generations of Apache trout) was chosen for our future condition projections because within this timeframe it is likely that these primary threats will continue to be relevant to the species, and also because it is biologically reasonable to assess the species' response to these threats within this timeframe. Additionally, this timeframe allows us to reasonably forecast upcoming management activities as they will be implemented through the CMP.

Continued implementation of the CMP will actively manage threats to Apache trout including the presence of nonnative trout and wildfire and post-fire debris flow. Nonnative trout impact the Apache trout in multiple ways including hybridization, predation, and competition. Wildfires primarily produce debris flows that render habitat unsuitable for the species. To mitigate these two threats, recovery partners will continue to undertake successful conservation actions such as construction and maintenance of conservation barriers, removal (by physical or chemical means) of nonnative trout species, restocking of Apache trout via hatchery and/or existing relict populations, restoration of Apache trout habitats and reduction of fuel loads to reduce the risk of wildfires, and fish salvages following wildfires per the CMP. Continued construction and maintenance of conservation barriers will continue to prevent hybridization of the Apache trout with other trout species, as well as to prevent competition with and predation by other fish species.

Climate change threats that are more uncertain and difficult to mitigate include warming stream temperatures, more frequent and severe droughts, reduced snowpack with increased rain on snow events, and more intense summer monsoon precipitation. The future scenarios that were developed for Apache trout incorporate these factors in order to evaluate how climate variability might influence future condition for the species.

While the SSA report contains a total of five scenarios, in determining the future condition and status of the species for this rulemaking we determined that only two of the five scenarios are plausible. Scenarios 1 and 2 in the SSA assumed that no multi-agency CMP would be in place after the species is delisted; however, since the SSA report and the scenarios were developed, the CMP has been signed and is currently being implemented, making these scenarios not plausible. Our assessment of scenarios indicated that scenario 5 is also not plausible given the constraints involved with securing funding and commitment from partners for “greatly increased” management of the species to occur (USFWS 2022a, p. 121). Given these factors, we did not consider scenarios 1, 2, and 5 and relied on scenarios 3 and 4 to inform our status determination.

As noted above, a 30-year timeframe was chosen because it encompasses six generations of Apache trout and is, therefore, a biologically reasonable timeframe for assessing the likelihood of threats as well as the species' response to those threats. Additionally, this timeframe allows us to reasonably forecast upcoming management activities that will be implemented through the CMP. The two scenarios used for our status determination in this final rule reflect both exogenous factors such as watershed condition and climatic changes, as well as management action feasibility and volume given funding and other programmatic constraints (e.g., funding and other resources) and policy. The scenarios incorporate a status quo level of management through the CMP, as well as potentially increased levels of management through future conservation actions that could take place throughout the future. Each scenario was based on a 30-year timeframe and each includes climate change impacts and other factors impacting the Apache trout, implementation of the CMP, and scientific and technological advancement. The two scenarios from the SSA report that we evaluated are:

Scenario 3 (Sustained Management, i.e., status quo): Recovery and conservation efforts continue at sustained levels, which during the years 2000-2020 were proven to be beneficial to Apache trout recovery. This level of management will be maintained into the future as prescribed by and implemented through the CMP. Thus, actions continue and are effective at reducing some threats. This includes legally required actions and those voluntarily agreed to in the CMP. Barrier construction, population expansion, and nonnative trout removals occur at levels required to meet recovery criteria (30 pure populations, or similar) and are maintained thereafter. USFWS assistance to the WMAT continues. Some funding sources disappear (e.g., National Fish and Wildlife Foundation Apache Trout Keystone Initiative), but other funding sources emerge (e.g., National Fish Habitat Act). This scenario represented the status quo scenario with approximately the same level of resources and management action as a 2000-2020 baseline.

• Barrier installation and maintenance continues at 2000-2020 levels. The number of viable Apache trout populations and metapopulations increases to meeting recovery goals and is maintained after delisting.

• Effectiveness of land management policies for stream ecosystem and threatened species is initially maintained through delisting due to the CMP agreement in place. Across the Apache trout range, watershed functional conditions are maintained or improved, riparian and instream habitat are maintained or improved in quality, and stream temperatures are maintained or improved to support Apache trout due to protections during land management planning and implementation.

• Because of climate change, stream temperatures become warmer, droughts continue to become more frequent and severe, risk of wildfire and post-fire debris flow increases, snowpack decreases but increased rain on snow events occur, and summer monsoon rains become more intense.

Scenario 4 (Increased Management): Recovery and conservation efforts continue but at levels increased slightly from 2000-2020 baseline levels that are beneficial to the species. Management actions continue and some become effective at reducing some threats. After barrier construction, population expansion, and nonnative trout removals initially occur at levels required to meet recovery criteria (30 pure populations, or similar) and Apache trout are delisted, the level of actions is maintained due to the CMP in place, but also increases due to emergence of new research and technology. USFWS assistance to the WMAT continues. Legislation emerges resulting in new funding sources for fish habitat projects (e.g., National Fish Habitat Act), and there is broad implementation of the Four Forest Restoration Initiative, Black River Restoration Environmental Assessment, and FAIR Forest Management Plan (fuels management) that are beneficial to watershed functional conditions and reduced wildfire risk.

• Barrier installation and maintenance increase slightly from 2000-2020 levels due to new technology that increases effectiveness and reduces cost and maintenance. The number of viable Apache trout populations increases and one large metapopulation is realized to meet and exceed recovery goals.

• Effectiveness of land management policies for stream ecosystem and threatened species is initially maintained through delisting due to the CMP in place. Across the Apache trout range, watershed functional conditions are improved, riparian and instream habitat are improved in quality, and stream temperatures are improved (riparian restoration and recovery) to support Apache trout due to protections during land management planning and implementation.

• Because of climate change, stream temperatures become warmer, droughts continue to become more frequent and severe, risk of wildfire and post-fire debris flow increases, snowpack decreases but more rain on snow events occur, and summer monsoon rains become more intense.

For each scenario provided in the SSA report, Apache trout core team members indicated in an online survey the overall impact of each scenario on populations across the species' range, or subsets of the range with which they are familiar, using their best professional judgment. Each core team expert responded to survey questions in terms of what the condition—described as a GPA—of each Apache trout population (or currently unoccupied stream) would be, based on the grading scale used to describe current conditions, above, under each of the five future condition scenarios after a 30-year timeframe. GPAs were summarized across populations to assess the influence of each scenario on the rangewide status of Apache trout.

When survey responses of future condition were summarized (averaged) across populations for scenarios 3 and 4 to infer a future rangewide condition of the Apache trout under each scenario, the future condition of the species under scenario 4 (increased management) was expected to improve compared to scenario 3 (sustained management), similar to that of individual populations.

Under scenario 3, which maintains the same level of conservation management and actions as are currently being implemented through the CMP, the condition of the species was estimated at a GPA score of 2.53. This average score, however, includes variation in populations. Under scenario 3, we project the future condition of the majority of the relict populations would modestly decline, resulting in slightly lower resiliency. These declines are attributed to potential impacts from climate change and its effect on forest fires that are not expected to be offset by other management actions (e.g., nonnative trout eradication) which are generally not currently needed in relict populations. On the other hand, we project that some replicate populations would have slightly better condition in the future compared to current conditions due to completion of ongoing nonnative trout eradication efforts (e.g., West Fork Black River [lower]) and planned replacement of nonfunctional conservation barriers (e.g., West Fork Little Colorado River). Overall, relative to current condition, the species' overall resiliency under scenario 3 may modestly decline. Therefore, even though redundancy would remain the same, representation may be slightly reduced due to the projected decline of the Apache trout relict populations under scenario 3.

Under scenario 4, which evaluates an increased level of conservation management versus what is currently being implemented through the CMP, the future condition of the Apache trout would be essentially unchanged with a GPA score of 2.86. This represents a nominal decrease when compared to the current condition GPA score of 2.89. Under scenario 4, we project slight improvement in future conditions across some populations with other populations remaining essentially unchanged or experiencing slight declines. Some natural processes (e.g., purging of nonnative alleles) and planned management actions not represented in scenarios 3 and 4 (e.g., new population establishment, metapopulation creation) are expected to occur that will further improve specific and range-wide GPA scores. Further, average grant funding to support field crews and conservation projects obtained during 2020-2022 also far exceeds the average annual funding obtained for similar work during the 2000-2020 baseline period. Thus, future condition scores for scenarios 3 and 4 likely underestimate actual future conditions for the species as additional populations are created and maintained, nonnative trout populations are eradicated, and populations with low levels of introgression purge nonnative alleles over time.

Under both scenarios, the CMP plays an important role in determining the species' future condition and the management of threats to Apache trout. The CMP was drafted and signed to ensure that current conservation efforts will continue in perpetuity. The signing of the CMP has a demonstrable effect on the species' overall status with current management level resulting in only a slight and modest decline under scenario 3 (the status quo scenario). Scenario 4, in which funding for conservation efforts would increase, results in maintaining the species' overall future condition. Overall, the result of our future scenarios analysis demonstrates the importance of continued implementation of the CMP to ensure both the maintenance of current populations and habitat, the restoration of degraded habitat, and the establishment of new populations.

For climate-related threats to Apache trout that are not able to be actively managed, we relied on a model developed to inform the magnitude of effects that these factors might have through the foreseeable future. For increased stream temperatures, our model suggested that most streams currently occupied by Apache trout, or unoccupied but designated as recovery streams, are not temperature limited, and that suitability improved when 2080s projections of temperature alone were considered because some headwater reaches appeared to be currently too cold for occupancy. Most habitat patches were not limited by warm stream temperatures because the habitat designated for species recovery is upstream of protective fish passage barriers that are far enough upstream to not be temperature limiting now or into the 2080s (Avenetti et al. 2006, p. 213; USFWS 2009, p. 19; USFWS 2022b, pp. 118-127). In fact, the effect of temperature on juvenile Apache trout occupancy suggested that streams can be too cold, and model projections of stream temperature in the 2080s increased the amount of suitable habitat in some streams because of the unimodal response to temperature. This suggests cold temperatures can be limiting Apache trout populations in some streams, and any warming may benefit them in headwater reaches—at least up until the 2080s.

It was only when future changes in precipitation were considered in tandem with stream temperature that habitat suitability decreased into the 2080s. Many habitat patches that are currently occupied by the species are projected to remain suitable into the 2080s, which suggests their resiliency is only limited by the size of the patch they currently occupy (Peterson et al. 2014, pp. 564-268; Isaak et al. 2015, pp. 2548-2551; USFWS 2022a, pp. 135-140). However, when projections of reduced precipitation were also considered, habitat suitability decreased in Apache trout streams. This is not surprising given that stream intermittency and drought have impacted some populations in the past (Robinson et al. 2004, pp. 15-17; Williams et al. 2020, entire), and less precipitation, and thus streamflow, would exacerbate these impacts, especially since the Southwest is anticipated to experience novel and mega-drought conditions in future climates (Crausbay et al. 2020, pp.337-348; Williams et al. 2020, entire).

Precipitation in the White Mountains primarily falls as winter snow and summer monsoon rain (Mock 1996, pp. 1113-1124). However, decreases in precipitation due to climate change are expected to occur in winter in the form of snow (Easterling et al. 2017, p. 207), and decreases in snowpack are likely to negatively impact stream baseflows and summer temperatures. Hydrologic models linked to climate models show future precipitation increasingly falling as rain, higher frequency of rain-on-snow, and increased snowmelt rates, all of which lead to increased overland runoff to streams and less infiltration to groundwater. Less groundwater storage leads to less groundwater discharge to streams in late summer and early autumn (Huntington and Niswonger 2012, pp. 16-18). The summer monsoon season can add precipitation, but at much warmer temperatures regardless of whether it occurs as overland flow or through shallow groundwater discharge pathways.

While snow melt can result in overland flow during spring runoff, it also infiltrates into groundwater and does so at near freezing temperatures (at or just above 0 °C (32 °F); Potter 1991, pp. 847, 850). Thus, any groundwater contributions to streams that originate from snowmelt are likely to have a stronger cooling effect on stream temperatures released over longer time periods than overland flow from either snowmelt or monsoon rains. If snowpack is reduced in the future it is likely that groundwater return flows may occur earlier and be less overall, thus providing less of a cooling effect into late summer, especially prior to monsoon rains (Overpeck and Bonar 2021, pp. 139-141).

Determination of the Apache Trout's Status

Section 4 of the Act (16 U.S.C. 1533) and its implementing regulations (50 CFR part 424) set forth the procedures for determining whether a species meets the definition of an endangered species or a threatened species. The Act defines an “endangered species” as a species that is in danger of extinction throughout all or a significant portion of its range, and a “threatened species” as a species that is likely to become an endangered species within the foreseeable future throughout all or a significant portion of its range. The Act requires that we determine whether a species meets the definition of an endangered species or a threatened species because of any of the following factors: (A) The present or threatened destruction, modification, or curtailment of its habitat or range; (B) Overutilization for commercial, recreational, scientific, or educational purposes; (C) Disease or predation; (D) The inadequacy of existing regulatory mechanisms; or (E) Other natural or manmade factors affecting its continued existence.

Status Throughout All of Its Range

The Apache trout is a species endemic to multiple river basins in eastern Arizona. Due to conservation efforts undertaken within these past decades, the Apache trout now encompasses 30 genetically pure populations across 3 basins and 6 subbasins. While these populations will continue to be impacted by potential invasion of nonnative trout and debris runoff from wildfire and climate change, construction and maintenance of conservation barriers and restocking efforts have contributed and will continue to contribute to restoration of habitats and populations. Currently, these 30 Apache trout populations are assessed to possess good conditions (2.89 on a 4.0 grading scale). Within these 30 populations, relict populations have an average GPA of 2.93, and replicate populations have an average GPA of 2.85. These results demonstrate that both types of populations contain moderate to good condition with the relict populations rated slightly higher.

Apache trout representation is best demonstrated within the 17 relict populations across five subbasins. While further studies would need to be conducted to ascertain the genetic uniqueness of each relict population, these populations are not derived from known populations, suggesting that some of these populations could represent unique genetic lineages for the species. To further preserve the genetic diversity of the species, the Service and our partners have established replicate populations within and alongside other subbasins, resulting in the total of 30 populations across six subbasins. As noted above in our resiliency discussion, through continuous monitoring, restoration of habitat, and, if needed, restocking, these populations are rated as being in fair or good condition. The genetic uniqueness of these populations helps maintain the diverse gene pool of the species, giving the species greater adaptive capacity to respond to environmental changes.

The presence of multiple relict and replicate populations across different subbasins demonstrates a high level of redundancy. Redundancy is further enhanced through the creation of new replicate populations from relict populations. These populations are created in adjacent subbasins, providing greater protection for the species against catastrophic events that may impact individual subbasins. Overall, the presence of 30 populations across six subbasins, with all being rated as fair to good condition, provide the Apache trout with sufficient redundancy to withstand catastrophic events that may impact the species.

Lastly, as noted earlier, we have met all criteria that the recovery plan recommended for delisting. This represents a significant recovery of the species. Recovery plan criteria are meant to function as guidance for recovery rather than hard metrics that must be met. Instead, we use the best available information to determine the status of the species.

Overall, the Apache trout now consists of multiple, sufficiently resilient populations across subbasins encompassing a large percentage of the species' historical range. Furthermore, while long-term threats such as nonnative trout species will continue to persist, continued management of conservation barriers will ensure that the threats do not negatively impact the species. Accordingly, we conclude that the species is not currently in danger of extinction, and thus does not meet the definition of an endangered species, throughout its range.

In considering whether the species meets the definition of a threatened species (likely to become an endangered species within the foreseeable future) throughout its range, we identified the foreseeable future of Apache trout to be 30 years based on our ability to reliably predict the likelihood of future threats as well as the species' response to future threats, and because it is a timeframe in which we can reasonably forecast upcoming management activities as they will be implemented through the CMP. Our analysis of future condition emphasized the importance of continued management of the conservation barriers and removal of nonnative trout. Species viability modestly declined in scenario 3, and increased in scenario 4, due to increases in management efforts. Scenarios 3 and 4 are both scenarios in which the CMP is being implemented. In our assessment, we found that the CMP, while voluntary in nature, plays a vital role in continuing to improve the status of the Apache trout into the future. For example, WMAT, AZGFD, and the USFWS are currently working together to mechanically remove brook trout from the upper West Fork Black River population, including Thompson Creek, in case chemical renovation of this system is not ultimately approved.

This effort represents just one of the ongoing efforts to improve the species' overall condition, as well as the willingness of Federal, State, Tribal, and private partners to continue these conservation efforts into the future. Other collaborative conservation efforts include brook and brown trout removal projects, fish passage improvements, riparian habitat restoration projects, and conservation barrier replacements or old barrier removal projects on Tribal, State, and Federal lands. WMAT and the USFWS are currently working to eradicate brown trout from Aspen, Big Bonito, Coyote, Little Bonito, and Little Diamond creeks. All partners are working on fish passage improvements, including removing four conservation barriers on Hayground, Home, and Stinky creeks and replacing six culverts on Paradise and Thompson creeks to improve fish passage, increase occupied extents, and allow for metapopulation dynamics among connected populations. Riparian habitat restoration projects are underway on Boggy and Lofer creeks and being planned for Flash Creek, South Fork Little Colorado River, and West Fork Black River. Finally, conservation barrier replacements are underway that will protect the populations in Aspen, Boggy/Lofer, Coyote, Crooked, Flash, Little Bonito, Little Diamond, Ord, Paradise, and Wohlenberg creeks.

Apache trout populations with high resiliency will continue to be the focus of active habitat management, such as riparian vegetation management and habitat restoration, to improve or ensure their climate resiliency into the 2080s and potentially beyond. Most habitat patches are not currently limited by warm stream temperatures. Habitat designated for Apache trout recovery largely occurs in colder, upstream areas above conservation barriers (Avenetti et al. 2006, p. 213; USFWS 2009, p. 19), and even with increasing stream temperatures through the foreseeable future many of these areas will not be limited by warmer temperatures into the 2080s. As described previously, the effect of temperature on juvenile Apache trout occupancy suggests that many streams can in fact be too cold, and projections of stream temperature into the 2080s in some cases increased the amount of suitable habitat in some streams because of the unimodal response to temperature.

Overall, the signing of the CMP in 2021 ensures that conservation for the Apache trout will remain for the long-term. With the CMP in place and considering future effects from climate change and the response of Apache trout to these effects, we conclude that the Apache trout will exhibit sufficient resiliency, redundancy, and representation to maintain viability for the foreseeable future. Accordingly, we conclude that the species is not likely to become in danger of extinction in the foreseeable future, and thus does not meet the definition of a threatened species, throughout all of its range.

Status Throughout a Significant Portion of Its Range

Under the Act and our implementing regulations, a species may warrant listing if it is in danger of extinction or likely to become so in the foreseeable future throughout all or a significant portion of its range. Having determined that the Apache trout is not in danger of extinction or likely to become so in the foreseeable future throughout all of its range, we now consider whether it may be in danger of extinction (i.e., endangered) or likely to become so in the foreseeable future (i.e., threatened) in a significant portion of its range—that is, whether there is any portion of the species' range for which both (1) the portion is significant; and, (2) the species is in danger of extinction or likely to become so in the foreseeable future in that portion. Depending on the case, it might be more efficient for us to address the “significance” question or the “status” question first. We can choose to address either question first. Regardless of which question we address first, if we reach a negative answer with respect to the first question that we address, we do not need to evaluate the other question for that portion of the species' range.

In undertaking this analysis for Apache trout, we choose to address the status question first. We began by identifying portions of the range where the biological status of the species may be different from its biological status elsewhere in its range. For this purpose, we considered information pertaining to the geographic distribution of (a) individuals of the species, (b) the threats that the species faces, and (c) the resiliency condition of populations.

We evaluated the range of the Apache trout to determine if the species is in danger of extinction now or likely to become so in the foreseeable future in any portion of its range. Because the range of a species can theoretically be divided into portions in an infinite number of ways, we focused our analysis on portions of the species' range that may meet the definition of an endangered species or a threatened species. Although we assessed current and future conditions at a population scale in the SSA report, interactions between populations within a subbasin can be complex (i.e., in some subbasins, there are genetic exchanges between populations while in others, populations are separated by barriers). Thus, to assess these portions equally, we focus our analysis here at the subbasin scale. That said, the current and future conditions of the populations will be used to discuss the conditions of the subbasins.

Within these portions, we examined the following threats: invasive trout, habitat loss due to wildfire, and the effects from climate change, including synergistic and cumulative effects. As discussed in our rangewide analyses, nonnative trout and wildfire are the main drivers of the species' status.

Looking across the different subbasins, all but one have the mean GPA of 2.83 or above under its current condition (meaning good conditions under our conditions metric). When examining future conditions, even under the worst-case scenario, with reduced management and no CMP, all but one subbasin have a future condition status of fair. While there are differences in scoring within each subbasin, at the subbasin scales, these subbasins possess sufficient resiliency such that we do not consider them to be in danger of extinction or likely to become so within the foreseeable future. For these subbasins, we assessed them to possess the same status as our rangewide analysis.

Out of all the subbasins of the Apache trout, the Diamond subbasin has the lowest mean GPA of 2.33 under its current condition. However, under future condition, we project the species will slightly decline from its current condition under scenario 3. Under both scenarios 3 and 4, the Diamond subbasin remains on the lower end of the fair rating.

The major driver of a subbasin's status is its habitat condition score. Although future condition scoring does not separate demographic GPA from habitat GPA, we know from the current condition score that the limiting factor for Apache trout within the Diamond subbasin is habitat condition. Three of the four populations within the Diamond subbasin have high demographic GPAs, with high abundance and multiple age classes. However, the scores for habitat quality are 2.33, 2.00, 1.83, and 1.83, due primarily to shorter occupied stream lengths compared to other populations. Additionally, the streams within the Diamond subbasin experience a higher percentage of intermittency, meaning that larger portions of the stream tend to go dry during periods of drought. Given the continuing effects of climate change, it is likely that these streams will experience periods with intermittent streamflow in some reaches into the future.

Although populations of the Apache trout in the Diamond subbasin are currently rated as being in fair condition, the low habitat quality (primarily due to occupied stream length being less than 11.25 km (7 mi), estimations of intermittent stream proportions, the presence of brown trout, and current barrier conditions) and the potential for decline due to climate change could lead to elevated risk to populations in the foreseeable future in this portion of the range. Work to eradicate (and prevent reinvasion of) brown trout from two streams in this subbasin is underway, which, if successful, would result in higher habitat scores once completed (with all other scores remaining unchanged, the subbasin's average habitat GPA would rise to 2.58 once the work is completed) and would reduce the risk of population declines in this portion of the range (USFWS 2022a, p. 101). However, these actions have not yet significantly improved the status of this subbasin, and we assessed this subbasin to be at elevated risk of extirpation to a degree that this portion of the range may be in danger of extinction within the foreseeable future.

Given that the Diamond subbasin may be in danger of extinction within the foreseeable future, we next evaluated if this portion of the range was significant. Although every subbasin provides some contribution to the species' resiliency, representation, and redundancy, as noted above, the Diamond subbasin populations occupy a short stream length (30.2 km (18.8 mi)) that comprises a small portion of the Apache trout's overall range (10.7 percent of the Apache trout's overall range of 281.5 km (174.9 mi)). Ecologically, the habitats where these populations are found are not dissimilar to habitats found in the other subbasins. As in the other subbasins, Apache trout in the Diamond subbasin are found in headwater streams with shallow depth, relatively slow-moving water, and coarse, clean gravel streambeds.

The Diamond subbasin is comprised of a mixture of replicate and relict populations. Although this subbasin contains relict populations, these and the replicate populations are associated with populations in the neighboring subbasins of North Fork White River and East Fork White River. Specifically, relict populations in the adjacent subbasin were used as founder stocks for the replicate populations in the Diamond subbasin, and the relict population in the Diamond subbasin was used to create a replicate population in an adjacent subbasin. Thus, through the process of replication of populations, the genetic contribution of the Diamond subbasin is dispersed across other subbasins.

Overall, the Diamond subbasin's short stream length relative to the species' overall range, lack of ecological uniqueness, proximity to other subbasins, and existence of replicate populations lead us to conclude that this portion of the Apache trout's range does not represent a significant portion of the range; therefore, we find that there are no portions of the species' range that warrant further consideration, and the species is not in danger of extinction or likely to become so in the foreseeable future in any significant portion of its range. This does not conflict with the courts' holdings in Desert Survivors v. Department of the Interior, 321 F. Supp. 3d 1011, 1070-74 (N.D. Cal. 2018), and Center for Biological Diversity v. Jewell, 248 F. Supp. 3d 946, 959 (D. Ariz. 2017) because, in reaching this conclusion, we did not apply the aspects of the Final Policy on Interpretation of the Phrase “Significant Portion of Its Range” in the Endangered Species Act's Definitions of “Endangered Species” and “Threatened Species” (79 FR 37578; July 1, 2014), including the definition of “significant” that those courts' decisions held to be invalid.

Determination of Status

Our review of the best available scientific and commercial information indicates that the Apache trout does not meet the definition of an endangered species or a threatened species in accordance with sections 3(6) and 3(20) of the Act. In accordance with our regulations at 50 CFR 424.11(e)(2) currently in effect, the Apache trout has recovered to the point at which it no longer meets the definition of an endangered species or a threatened species. Therefore, we are removing the Apache trout from the Federal List of Endangered and Threatened Wildlife.

Effects of This Rule

This rule revises 50 CFR 17.11(h) by removing the Apache trout from the Federal List of Endangered and Threatened Wildlife. On the effective date of this rule (see DATES, above), the prohibitions and conservation measures provided by the Act, particularly through sections 7 and 9 or any 4(d) rule, will no longer apply to the Apache trout. Federal agencies will no longer be required to consult with the Service under section 7 of the Act in the event that activities they authorize, fund, or carry out may affect the Apache trout. This rule will also remove the Federal regulations related to the Apache trout's 4(d) rule at 50 CFR 17.44(a).

Post-Delisting Monitoring

Section 4(g)(1) of the Act requires us, in cooperation with the States, to implement a monitoring program for not less than 5 years for all species that have been recovered. Post-delisting monitoring (PDM) refers to activities undertaken to verify that a species delisted due to recovery remains secure from the risk of extinction after the protections of the Act no longer apply. The primary goal of a PDM is to monitor the species to ensure that its status does not deteriorate, and if a decline is detected, to take measures to halt the decline so that proposing it as endangered or threatened is not again needed. If at any time during the monitoring period data indicate that protective status under the Act should be reinstated, we can initiate listing procedures, including, if appropriate, emergency listing.

We have prepared a PDM plan for the Apache trout. We published a notice of availability of a draft PDM plan with the proposed delisting rule (88 FR 54548; August 11, 2023), and we did not receive any comments on the plan. Therefore, we consider the plan final. As discussed in the proposed rule, the PDM plan for Apache trout will monitor populations following the same sampling protocol used by cooperators prior to delisting. Monitoring will consist of tracking Apache trout distribution and abundance and potential adverse changes to Apache trout habitat due to environmental or anthropogenic factors. Post-delisting monitoring will occur for a 10-year period, beginning after the final delisting rule is published, and will include the implementation of (1) Apache Trout Monitoring Plan (“Monitoring Plan,” Dauwalter et al. 2017b, entire) and (2) Apache Trout CMP, Apache Trout Cooperative Management Plan Workgroup 2021, entire) for the duration of the PDM period. Both plans are currently being implemented and will continue to be implemented into the future. The Monitoring Plan describes population and habitat survey methods, data evaluation methods, and monitoring frequency for each population. The CMP describes roles, responsibilities, and evaluation and reporting procedures by the cooperators. Together these plans will guide collection and evaluation of pertinent information over the PDM period and will be implemented jointly by the USFWS, WMAT, AZGFD, USFS, and Trout Unlimited. Both documents will be available upon the publication of this rule at https://www.regulations.gov, under the Docket No. FWS-R2-ES-2022-0115.

During the PDM period, if declines in the Apache trout's protected habitat, distribution, or persistence were detected, the Service, together with other PDM partners, would investigate causes of the declines, including considerations of habitat changes, human impacts, stochastic events, or any other significant evidence. The outcome of the investigation would be to determine whether the Apache trout warranted expanded monitoring, additional research, additional habitat protection, or relisting as an endangered or threatened species under the Act. If relisting the Apache trout were warranted, emergency procedures to relist the species may be followed, if necessary, in accordance with section 4(b)(7) of the Act.

Required Determinations

Government-to-Government Relationship With Tribes

In accordance with the President's memorandum of April 29, 1994 (Government-to-Government Relations with Native American Tribal Governments; 59 FR 22951, May 4, 1994), Executive Order 13175 (Consultation and Coordination with Indian Tribal Governments), the President's memorandum of November 30, 2022 (Uniform Standards for Tribal Consultation; 87 FR 74479, December 5, 2022), and the Department of the Interior's manual at 512 DM 2, we readily acknowledge our responsibility to communicate meaningfully with federally recognized Tribes and Alaska Native Corporations on a government-to-government basis. In accordance with Secretary's Order 3206 of June 5, 1997 (American Indian Tribal Rights, Federal-Tribal Trust Responsibilities, and the Endangered Species Act), we readily acknowledge our responsibilities to work directly with Tribes in developing programs for healthy ecosystems, to acknowledge that Tribal lands are not subject to the same controls as Federal public lands, to remain sensitive to Indian culture, and to make information available to Tribes.

The Apache trout occurs on area managed by the WMAT. As noted above, we have coordinated with WMAT in conserving and protecting the Apache trout's habitat and populations, and we have coordinating with WMAT throughout the development of the PDM plan. Furthermore, WMAT participated in the development of the SSA. Going forward, we anticipate our partnership with WMAT to continue into the future regardless of any potential changes in the Apache trout's status under the Act.

References Cited

A complete list of references cited in this rulemaking is available on the internet at https://www.regulations.gov and upon request from the Arizona Ecological Services Office (see FOR FURTHER INFORMATION CONTACT).

Authors

The primary authors of this rule are staff members of the Service's Species Assessment Team and the U.S. Fish and Wildlife Service Arizona Fish and Wildlife Conservation Office.

List of Subjects in 50 CFR Part 17

Endangered and threatened species, Exports, Imports, Plants, Reporting and recordkeeping requirements, Transportation, Wildlife.

Regulation Promulgation

Accordingly, we amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; 4201-4245, unless otherwise noted.

§ 17.11 [Amended]

2. In § 17.11, in paragraph (h), amend the List of Endangered and Threatened Wildlife by removing the entry for “Trout, Apache” under “Fishes”.

3. In § 17.44, revise the heading of paragraph (a) to read as follows:

§ 17.44 Species-specific rules—fishes.

(a) Lahontan cutthroat trout and Paiute cutthroat trout (Oncorhynchus clarkii henshawi and Oncorhynchus clarkii seleniris). * * *

* * * * *

Martha Williams,
Director, U.S. Fish and Wildlife Service.

[FR Doc. 2024-19330 Filed 9-5-24; 8:45 am]

BILLING CODE 4333-15-P